DEPARTMENT OF ENERGY

Federal Energy Regulatory Commission

Combined Notice of Filings

Take notice that the Commission has received the following Natural Gas Pipeline Rate and Refund Report filings:

Filings Instituting Proceedings

Docket Numbers: RP11-2350-000.

Applicants: Williston Basin Interstate Pipeline Company.

Description: Williston Basin Interstate Pipeline Company submits tariff filing per 154.204: Non-Conforming Service Agreement—Nesson to be effective 9/1/2011.

Filed Date: 08/02/2011.

Accession Number: 20110802-5114.

Comment Date: 5 p.m. Eastern Time on Monday, August 15, 2011.

Docket Numbers: RP11-2351-000.

Applicants: Trunkline Gas Company, LLC.

Description: Trunkline Gas Company, LLC submits tariff filing per 154.204: Negotiated Rates Filing—12 to be effective 7/16/2011.

Filed Date: 08/04/2011.

Accession Number: 20110804-5085.

Comment Date: 5 p.m. Eastern Time on Tuesday, August 16, 2011.

Docket Numbers: RP11-2352-000.

Applicants: Trunkline Gas Company, LLC.

Description: Trunkline Gas Company, LLC submits tariff filing per 154.203: Baseline Filing Volume No. 1-A to be effective 7/16/2011.

Filed Date: 08/04/2011.

Accession Number: 20110804-5089.

Comment Date: 5 p.m. Eastern Time on Tuesday, August 16, 2011.

Docket Numbers: RP11-2353-000.

Applicants: Kern River Gas Transmission Company.

Description: Kern River Gas Transmission Company submits tariff filing per 154.204: 2011 ACA Filing to be effective 10/1/2011.

Filed Date: 08/04/2011.

Accession Number: 20110804-5099.

Comment Date: 5 p.m. Eastern Time on Wednesday, August 17, 2011.

Docket Numbers: RP11-2354-000.

Applicants: Gulf Crossing Pipeline Company LLC.

Description: Gulf Crossing Pipeline Company LLC submits tariff filing per 154.204: Enterprise K12-7 Amendment to Negotiated Rate Agreement to be effective 8/6/2011.

Filed Date: 08/05/2011.

Accession Number: 20110805-5014.

Comment Date: 5 p.m. Eastern Time on Wednesday, August 17, 2011.

Docket Numbers: RP11-2355-000.

Applicants: Williston Basin Interstate Pipeline Company.

Description: Williston Basin Interstate Pipeline Company submits tariff filing per 154.204: Sheyenne Expansion Additional Contracts to be effective 9/5/2011.

Filed Date: 08/05/2011.

Accession Number: 20110805-5033.

Comment Date: 5 p.m. Eastern Time on Wednesday, August 17, 2011.

Docket Numbers: RP11-2356-000.

Applicants: Kern River Gas Transmission Company.

Description: Kern River Gas Transmission Company submits tariff filing per 154.203: 2011 August 5 Compliance Filing (RP04-274-023) to be effective 9/1/2011.

Filed Date: 08/05/2011.

Accession Number: 20110805-5060.

Comment Date: 5 p.m. Eastern Time on Wednesday, August 17, 2011.

Docket Numbers: RP11-2357-000.

Applicants: PostRock KPC Pipeline, LLC.

Description: PostRock KPC Pipeline, LLC submits tariff filing per 154.402: KPC ACA Filing to be effective 10/1/2011.

Filed Date: 08/08/2011.

Accession Number: 20110808-5031.

Comment Date: 5 p.m. Eastern Time on Monday, August 22, 2011.

Docket Numbers: RP11-2358-000.

Applicants: Gulf South Pipeline Company, LP.

Description: Gulf South Pipeline Company, LP submits tariff filing per 154.204: Virginia Natural Gas Negotiated Rate Agreement and Amendment to be effective 8/6/2011.

Filed Date: 08/08/2011.

Accession Number: 20110808-5032.

Comment Date: 5 p.m. Eastern Time on Monday, August 22, 2011.

Docket Numbers: RP11-2359-000.

Applicants: Tres Palacios Gas Storage LLC.

Description: Tres Palacios Gas Storage LLC submits tariff filing per 154.204: Tres Palacios Gas Storage LLC—Revisions to FERC Gas Tariff to be effective 9/8/2011.

Filed Date: 08/09/2011.

Accession Number: 20110809-5020.

Comment Date: 5 p.m. Eastern Time on Monday, August 22, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-2199-001.

Applicants: Transcontinental Gas Pipe Line Company, LLC.

Description: Transcontinental Gas Pipe Line Company, LLC. submits tariff filing per 154.203: Revised Compliance Filing for Volume No. 2 Baseline and Rate Schedule X-275 to be effective 7/20/2011.

Filed Date: 08/03/2011.

Accession Number: 20110803-5080.

Comment Date: 5 p.m. Eastern Time on Monday, August 15, 2011.

Docket Numbers: RP11-2323-001.

Applicants: Dominion Transmission, Inc.

Description: Dominion Transmission, Inc. submits tariff filing per 154.205(b): DTI—July 29, 2011 Negotiated Rate Amendment to be effective 8/1/2011.

Filed Date: 08/05/2011.

Accession Number: 20110805-5064.

Comment Date: 5 p.m. Eastern Time on Wednesday, August 17, 2011.

Docket Numbers: RP11-2308-001.

Applicants: Algonquin Gas Transmission, LLC.

Description: Algonquin Gas Transmission, LLC submits tariff filing per 154.205(b): Winter Operations Supplemental Filing to be effective 9/1/2011.

Filed Date: 08/08/2011.

Accession Number: 20110808-5092.

Comment Date: 5 p.m. Eastern Time on Monday, August 22, 2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 9, 2011.
Kimberly D. Bose,
Secretary.

[FR Doc. 2011-20891 Filed 8-16-11; 8:45 am]

BILLING CODE 6717-01-P